DEPARTMENT OF HOMELAND SECURITY

Coast Guard

[USCG-2007-28112]

Merchant Marine Personnel Advisory Committee

AGENCY: Coast Guard, DHS.

ACTION: Notice of meetings.

SUMMARY: A Merchant Marine Personnel Advisory Committee (MERPAC) working group will meet to discuss an issue relating to the fitness of merchant marine personnel. MERPAC advises the Secretary of Homeland Security on matters relating to the training, qualifications, licensing, and certification of seamen serving in the U. S. merchant marine. These meetings will be open to the public.

DATES: A MERPAC working group will meet on Wednesday, June 27, 2007, and on Thursday, June 28, 2007, from 8:30 a.m. to 4:30 p.m. Requests to make oral presentations should reach the Coast Guard on or before June 15, 2007. Written material and requests to have a copy of your material distributed to each member of the subcommittee should reach the Coast Guard on or before June 15, 2007.

ADDRESSES: The MERPAC working group will meet in Room A129 of the South Academic Building (#4) of the Maritime Institute of Technology and Graduate Studies (MITAGS), 692 Maritime Boulevard, Linthicum Heights, MD 21090-1952. Further directions regarding the location of MITAGS may be obtained at the following link: http://www.mitags.org/t-directions.aspx. Send written material and requests to make oral presentations to Mr. Mark Gould, Commandant (CG-3PSO-1), U.S. Coast Guard Headquarters, 2100 Second Street, SW., Washington, DC 20593-0001. This notice is available on the Internet at http://dms.dot.gov.

FOR FURTHER INFORMATION CONTACT: For questions on this notice, contact Mr. Gould, Assistant to the Executive Director, telephone 202-372-1409, fax 202-372-1926, or e-mail mark.c.gould@uscg.mil.

SUPPLEMENTARY INFORMATION: Notice of these meetings is given under the Federal Advisory Committee Act, 5 U.S.C. App. (Pub. L. 92-463, 86 Stat. 770).

There will be additional meetings concerning this task statement in the future. The Coast Guard plans to conduct teleconference meetings every two weeks until work on the task statement has been completed. However, notice of these meetings will not be announced in the Federal Register. Therefore, the Coast Guard recommends that any person interested in participating in deliberations concerning this task statement attend the meetings announced in this notice in order to be placed on a list of interested persons. Alternatively, you may check on MERPAC's Web site for teleconference dates and for information on how to participate in teleconferences. MERPAC's Web site is located at https://homeport.uscg.mil/mycg/portal/ep/home.do. Then, click on the “Ports and waterways” link in the left-hand column. Then, click on the “Safety Advisory Committees” link in the center column. Then click on the “MERPAC” link in the center column. Lastly, click on the “Announcements” link in the center column.

Agenda of Meetings

The working group for Task Statement 61, concerning “Merchant mariner medical waiver evaluation guidelines,” will meet to conduct deliberations in preparation for delivering proposed MERPAC recommendations to the full committee.

Procedural

All meetings are open to the public. Please note that the meetings may adjourn early if all business is finished. At the Chair's discretion, members of the public may make oral presentations during the meetings. If you would like to make an oral presentation at a meeting, please notify Mr. Gould no later than June 15, 2007. Written material for distribution at a meeting should reach the Coast Guard no later than June 15, 2007. If you would like a copy of your material distributed to each member of the subcommittee in advance of the meeting, please submit 25 copies to Mr. Gould no later than June 15, 2007.

Information on Services for Individuals With Disabilities

For information on facilities or services for individuals with disabilities or to request special assistance at the meetings, contact Mr. Gould as soon as possible.

Dated: May 21, 2007.
J.G. Lantz,
Director of National and International Standards, Assistant Commandant for Prevention-Operations.

[FR Doc. E7-10164 Filed 5-25-07; 8:45 am]

BILLING CODE 4910-15-P